DEPARTMENT OF COMMERCE

International Trade Administration

[A-580-836]

Certain Cut-to-Length Carbon-Quality Steel Plate Products From the Republic of Korea: Rescission of Antidumping Duty Administrative Review in Part; 2016-2017

AGENCY: Enforcement and Compliance, International Trade Administration, Department of Commerce.

SUMMARY: The Department of Commerce (the Department) is partially rescinding its administrative review on certain cut-to-length carbon-quality steel plate products (CTL plate) from the Republic of Korea (Korea) for the period of review (POR) February 1, 2016, through January 31, 2017.

DATES: Effective July 31, 2017.

FOR FURTHER INFORMATION CONTACT: Yang Jin Chun AD/CVD Operations, Office I, Enforcement and Compliance, International Trade Administration, U.S. Department of Commerce, 1401 Constitution Avenue NW., Washington, DC 20230; telephone: (202) 482-5760.

SUPPLEMENTARY INFORMATION:

Background

On February 8, 2017, we published a notice of opportunity to request an administrative review of the antidumping duty order on CTL plate from Korea for the POR February 1, 2016, through January 31, 2017.¹ On April 10, 2017, in response to timely requests from, inter alia, Nucor Corporation and in accordance with section 751(a) of the Tariff Act of 1930, as amended (the Act), and 19 CFR 351.221(c)(1)(i), we initiated an administrative review of the antidumping duty order on CTL plate from Korea with respect to 14 companies.² On July 10, 2017, Nucor Corporation timely withdrew its request for an administrative review for Bookuk Steel Co., Ltd., Daewoo International Corp., Hyundai Glovis Co., Ltd., Hyundai Mipo Dockyard Co., Ltd., Hyosung Corporation, Samsung C&T Corp., Samsung C&T Engineering & Construction Group, Samsung C&T Trading and Investment Group, Samsung Heavy Industries, SK Networks Co., Ltd., Steel N People Ltd., and Sung Jin Steel Co., Ltd.³

¹ See Antidumping or Countervailing Duty Order, Finding, or Suspended Investigation; Opportunity to Request Administrative Review, 82 FR 9709 (February 8, 2017).

² See Initiation of Antidumping and Countervailing Duty Administrative Reviews, 82 FR 17188, 17194 (April 10, 2017).

³ See Nucor Corporation's withdrawal of review request dated July 10, 2017. Because the 90th day from the publication of the Initiation Notice was Sunday, July 9, 2017, the actual due date for filing the withdrawal of review request was Monday, July 10, 2017. See 19 CFR 351.303(b)(1) (“For both electronically filed and manually filed documents, if the applicable due date falls on a non-business day, the Secretary will accept documents that are filed on the next business day.”).

Rescission of Administrative Review in Part

Pursuant to 19 CFR 351.213(d)(1), the Department will rescind an administrative review, “in whole or in part, if a party that requested a review withdraws the request within 90 days of the date of publication of notice of initiation of the requested review.” Because Nucor Corporation withdrew its review request in a timely manner, and because no other party requested a review of the 12 companies identified above, we are rescinding the administrative review in part with respect to these 12 companies.

Assessment

The Department will instruct U.S. Customs and Border Protection (CBP) to assess antidumping duties on all appropriate entries. For these 12 companies, for which the review is rescinded, antidumping duties shall be assessed at the rate equal to the cash deposit of estimated antidumping duties required at the time of entry, or withdrawal from warehouse, for consumption, in accordance with 19 CFR 351.212(c)(1)(i). The Department intends to issue appropriate assessment instructions to CBP within 15 days after publication of this notice.

Notifications To Importers

This notice serves as a final reminder to importers of their responsibility under 19 CFR 351.402(f)(2) to file a certificate regarding the reimbursement of antidumping duties prior to liquidation of the relevant entries during this review period. Failure to comply with this requirement may result in the Department's presumption that reimbursement of antidumping duties occurred and the subsequent assessment of doubled antidumping duties.

Notification Regarding Administrative Protective Orders

This notice also serves as a reminder to parties subject to administrative protective order (APO) of their responsibility concerning the disposition of proprietary information disclosed under APO, in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: July 24, 2017.
James Maeder,
Senior Director performing the duties of Deputy Assistant Secretary for Antidumping and Countervailing Duty Operations.

[FR Doc. 2017-16037 Filed 7-28-17; 8:45 am]

BILLING CODE 3510-DS-P